COMMODITY FUTURES TRADING COMMISSION

Agency Information Collection Activities: Financial Education Content Needs Survey

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden.

DATES: Comments must be submitted on or before February 15, 2013.

ADDRESSES: Send comments regarding the burden estimated or any other aspect of the information collection, including suggestions for reducing the burden, to the addresses below. Please refer to this Federal Register notice in any correspondence.

Comments may be submitted to: Nisha Smalls, Office of Consumer Outreach, Commodity Futures Trading Commission, 1155 21st Street NW., Washington, DC 20581;

Comments may also be submitted by any of the following methods:

The agency's Web site at http://comments.cftc.gov. Follow the instructions for submitting comments through the Web site.

Mail: Natise Stowe, Office of the Secretariat, Commodity Futures Trading Commission, Three Lafayette Centre, 1155 21st Street NW., Washington, DC 20581.

Hand Delivery/Courier: Same as mail above.

Federal eRulemaking Portal: http://www.regulations.gov. Follow the instructions for submitting comments.

Please submit your comments using only one method and identity that it is for the renewal of this Federal Register notice.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations.¹

¹ See 17 CFR 145.9.

FOR FURTHER INFORMATION OR A COPY CONTACT: Nisha Smalls, Office of Consumer Outreach, Commodity Futures Trading Commission, 1155 21st Street NW., Washington, DC 20581, (202) 418-5895; FAX: (202) 418-5541; email: nsmalls@cftc.gov and refer to this Federal Register notice.

SUPPLEMENTARY INFORMATION: Abstract: In accordance with 7 U.S.C. 26, the CFTC is posing survey questions to the public. Questions included in the survey will inquire as to how often the respondents would like to receive content from CFTC, the format in which the respondents would like to receive information, and the topics the information should cover.

The Office of Consumer Outreach develops campaigns to change consumer behaviors, so that consumers can better avoid fraud as defined under the Commodities Exchange Act. The first campaign from the Office of Consumer Outreach involves utilizing government and non-profit agency distribution methods to provide anti-fraud information to consumers. This survey will assist the Office of Consumer Outreach in determining how the government and non-profit agencies would like to receive the anti-fraud information from the CFTC.

An agency may not conduct or sponsor, and a person is not required to respond to, a collection of information unless it displays a currently valid OMB control number. The Federal Register notice with a 60-day comment period soliciting comments on this collection of information was published on October 30, 2012.

Burden statement: The Commission estimates the burden of this collection of information as follows:

Regulations (17 CFR) | Estimated number of respondents | Total annual responses | Estimated number of hours per response | Annual burden
Survey | 500 | 500 | .25 | 125

There are no capital costs or operating and maintenance costs associated with this collection. The proposed survey will consist of the following questions:

BILLING CODE 6531-01-P

Dated: January 10, 2013.
Stacy D. Yochum,
Counsel to the Executive Director.

[FR Doc. 2013-00802 Filed 1-15-13; 8:45 am]

BILLING CODE 6531-01-C